DEPARTMENT OF TRANSPORTATION

Federal Highway Administration

Environmental Impact Statement: Anne Arundel County, MD and Prince George's County, MD

AGENCY: Federal Highway Administration.

ACTION: Notice of intent.

SUMMARY: The FHWA is issuing this notice to advise the public that an environmental impact statement will be prepared for a proposed highway project in Anne Arundel County and Prince George's County, Maryland.

FOR FURTHER INFORMATION CONTACT: Mr. Nelson J. Castellanos, Division Administrator, Federal Highway Administration, The Rotunda-Suite 220, 711 West 40th Street, Baltimore, Maryland 21211. Telephone (410) 962-4440.

SUPPLEMENTARY INFORMATION: The FHWA, in cooperation with the Maryland State Highway Administration, the Environmental Protection Agency and the U.S. Army Corps of Engineers, will prepare an environmental impact statement (EIS) on a proposal to improve transportation operations and mobility to MD 3 from north of US 50 to south of MD 32, in southwestern Anne Arundel County and northeastern Prince George's County. The proposed improvements will address existing and projected operational and safety issues for local traffic along MD 3 from north of US 50 to south of MD 32.

Congested traffic flow, inadequate intersections and crossings, increased residential and commercial development, and insufficient bicycle/pedestrian safety have accelerated the need for improvements to MD 3 within the study area. Several sections of roadway within the project limits are currently failing or experiencing failing conditions during the afternoon peak hours.

The alternates under consideration include (1) a no-build alternate; (2) a boulevard concept with interchange options; and (3) a modified boulevard concept with interchange options.

Coordination will continue with Federal, State, and local agencies, and with private organizations and citizens who have expressed interest. A Focus Group, comprised of local residents, community leaders, and business owners, meets periodically with the project engineers to assist in the development of the proposed alternates of improvements along MD 3, the interchanges and nearby intersections, as well as to report local traffic circulation, access and aesthetic concerns. In addition, an Alternates Public Workshop was held to acquaint the public with the MD 3 Project Planning Study, to present a summary of conceptual engineering and environmental studies to date, and to provide an opportunity for public involvement in the Project Planning Process.

A public hearing is anticipated to be held spring 2004. Public notice will be given of the time and place of this hearing. The draft EIS will be available for public and agency review and comment prior to the public hearing, to ensure that the full range of issues relating to this proposed action are addressed and all significant issues identified, comments, and suggestions are invited from all interested parties.

Comments or questions concerning this proposed action and the EIS should be directed to the FHWA at the address provided above.

Issued on: June 12, 2003.
Nelson J. Castellanos,
Division Administrator, Federal Highway Administration—Maryland Division.

[FR Doc. 03-15421 Filed 6-18-03; 8:45 am]

BILLING CODE 4910-22-M